DEPARTMENT OF HOMELAND SECURITY

Federal Emergency Management Agency

[Docket ID FEMA-2021-0002; Internal Agency Docket No. FEMA-B-2145]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 27, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2145, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Black Hawk County, Iowa and Incorporated Areas
Project: 17-07-0295S Preliminary Date: January 12, 2021
City of Cedar Falls | City Hall, 220 Clay Street, Cedar Falls, IA 50613.
City of Waterloo | City Hall, Planning and Zoning Department, 715 Mulberry Street, Waterloo, IA 50703.
Dickinson County, Iowa and Incorporated Areas
Project: 16-07-2213S Preliminary Date: February 10, 2021
City of Okoboji | City Hall, 1322 Highway 71 North, Okoboji, IA 51355.
City of Orleans | City of Orleans, Dickinson County Courthouse, 1802 Hill Avenue, Suite 2101, Spirit Lake, IA 51360.
City of Spirit Lake | City Hall, 1803 Hill Avenue, Spirit Lake, IA 51360.
Unincorporated Areas of Dickinson County | Dickinson County Courthouse, 1802 Hill Avenue, Suite 2101, Spirit Lake, IA 51360.
Fayette County, Iowa and Incorporated Areas
Project: 19-07-0018S Preliminary Date: December 7, 2020
City of Elgin | City Hall, 212 Main Street, Elgin, IA 52141.
City of Oelwein | City Hall, 20 2nd Avenue Southwest, Oelwein, IA 50662.
Unincorporated Areas of Fayette County | Fayette County Courthouse, 114 North Vine Street, West Union, IA 52175.
Hancock County, Iowa and Incorporated Areas
Project: 19-07-0019S Preliminary Date: December 3, 2020
City of Forest City | City Hall, 305 North Clark Street, Forest City, IA 50436.
Unincorporated Areas of Hancock County | Hancock County Courthouse, 855 State Street, Garner, IA 50438.
Winnebago County, Iowa and Incorporated Areas
Project: 19-07-0030S Preliminary Date: January 7, 2021
City of Leland | City Hall, 316 Walnut Street, Leland, IA 50453.
Unincorporated Areas of Winnebago County | Winnebago County Courthouse, 126 South Clark Street, Forest City, IA 50436.
Woodbury County, Iowa and Incorporated Areas
Project: 18-07-0015S Preliminary Date: October 21, 2020
City of Anthon | City Hall, 301 East Main Street, Anthon, IA 51004.
City of Bronson | City Hall, 100 East 1st Street, Bronson, IA 51007.
City of Correctionville | City Hall, 312 Driftwood Street, Correctionville, IA 51016.
City of Cushing | City Hall, 200 Main Street, Cushing, IA 51018.
City of Danbury | City Hall, 207 1st Street, Danbury, IA 51019.
City of Hornick | City Hall, 400 Main Street, Hornick, IA 51026.
City of Lawton | City Hall, 101 East Maple Street, Lawton, IA 51030.
City of Moville | City Hall, 21 Main Street, Moville, IA 51039.
City of Oto | City Hall, 27 Washington Street, Oto, IA 51044.
City of Pierson | City Hall, 201 Main Street, Pierson, IA 51048.
City of Salix | City Hall, 317 Tipton Street, Salix, IA 51052.
City of Sergeant Bluff | City Hall, 401 4th Street, Sergeant Bluff, IA 51054.
City of Sioux City | City Hall, Planning Division, 405 6th Street, Sioux City, IA 51102.
City of Sloan | City Hall, 428 Evans Street, Sloan, IA 51055.
City of Smithland | City Hall, 110 West Jackson Street, Smithland, IA 51056.
Unincorporated Areas of Woodbury County | Woodbury County Courthouse, Office of Planning and Zoning, 620 Douglas Street, Sioux City, IA 51101.
Winnebago Indian Tribe | Blackhawk Center, Administrative Offices, 100 Bluff Street, Winnebago, NE 68071.
Nemaha County, Kansas and Incorporated Areas
Project: 19-07-0010S Preliminary Date: November 10, 2020
City of Centralia | City Hall, 517 4th Street, Centralia, KS 66415.
City of Goff | Nemaha County Courthouse, 607 Nemaha Street, Seneca, KS 66538.
City of Oneida | Nemaha County Courthouse, 607 Nemaha Street, Seneca, KS 66538.
City of Sabetha | City Hall, 805 Main Street, Sabetha, KS 66534.
City of Seneca | City Hall, 531 Main Street, Seneca, KS 66538.
City of Wetmore | City Hall, 335 2nd Street, Wetmore, KS 66550.
Unincorporated Areas of Nemaha County | Nemaha County Courthouse, 607 Nemaha Street, Seneca, KS 66538.
Koochiching County, Minnesota and Incorporated Areas
Project: 17-05-1794S Preliminary Date: July 9, 2020
City of Big Falls | City Office, 410 2nd Street Northwest, Big Falls, MN 56627.
City of International Falls | Municipal Building, City Administrator's Office, 600 4th Street, International Falls, MN 56649.
City of Littlefork | City Hall, 901 Main Street, Littlefork, MN 56653.
City of Ranier | Community Building, 2099 Spruce Street, Ranier, MN 56668.
Red Lake Band of Chippewa Tribe | Red Lake Nation Government Center, 15484 Migizi Drive, Red Lake, MN 56671.
Unincorporated Areas of Koochiching County | Koochiching County Environmental Services Department, 715 4th Street, International Falls, MN 56649.
Nicollet County, Minnesota and Incorporated Areas
Project: 06-05-B980S Preliminary Dates: February 12, 2018 and February 28, 2020
City of Courtland | City Office, 300 Railroad Street, Courtland, MN 56021.
City of Mankato | Intergovernmental Center, 10 Civic Center Plaza, Mankato, MN 56001.
City of North Mankato | City Hall, 1001 Belgrade Avenue, North Mankato, MN 56003.
City of Saint Peter | Department of Public Works, 405 Saint Julian Street, Saint Peter, MN 56082.
Unincorporated Areas of Nicollet County | Nicollet County Government Center, 501 South Minnesota Avenue, Saint Peter, MN 56082-2543.
Allen County, Ohio and Incorporated Areas
Project: 14-05-4448S Preliminary Date: December 14, 2020
City of Delphos | Municipal Building, 608 North Canal Street, Delphos, OH 45833.
City of Lima | Municipal Center, 50 Town Square, Lima, OH 45801.
Unincorporated Areas of Allen County | Allen County Board of Elections, 204 North Main Street, Suite 301, Lima, OH 45801.
Village of Elida | Town Hall, 406 East Main Street, Elida, OH 45807.
Village of Lafayette | Community Building, 225 East Sugar Street, Lafayette, OH 45854.
Ottawa County, Ohio and Incorporated Areas
Project: 13-05-1802S Preliminary Date: December 8, 2020
City of Port Clinton | City Hall, 1868 East Perry Street, Port Clinton, OH 43452.
Unincorporated Areas of Ottawa County | Ottawa County Regional Planning Office, 315 Madison Street, Room 107, Port Clinton, OH 43452.
Village of Marblehead | Village Hall, 513 West Main Street, Marblehead, OH 43440.
Village of Put-in-Bay | Village Hall, 157 Concord Avenue, Put-in-Bay, OH 43456.

[FR Doc. 2021-13839 Filed 6-28-21; 8:45 am]

BILLING CODE 9110-12-P